DEPARTMENT OF TRANSPORTATION

National Highway Traffic Safety Administration

49 CFR Part 571

[Docket No. NHTSA-2004-18793]

RIN 2127-AJ39; 2127-AH85

Federal Motor Vehicle Safety Standards; Child Restraint Anchorage Systems

AGENCY: National Highway Traffic Safety Administration (NHTSA), Department of Transportation.

ACTION: Final rule, response to petitions for reconsideration; corrections.

SUMMARY: In June 2003, NHTSA published a response to petitions for reconsideration of earlier final rules amending Federal Motor Vehicle Safety Standard No. 225, Child Restraint Anchorage Systems. Subsequently, the agency received several petitions asking us to reconsider, correct or clarify some aspects of the June 2003 final rule. This document responds to those petitions. In addition, this document denies a request made in a petition for reconsideration to allow stowable (or “fold-away”) lower anchors past September 1, 2004.

DATES: The amendments made in this rule are effective September 1, 2004. If you wish to petition for reconsideration of this rule, your petition must be received by September 27, 2004.

ADDRESSES: If you wish to petition for reconsideration of this rule, you should refer in your petition to the docket number of this document and submit your petition to: Administrator, Room 5220, National Highway Traffic Safety Administration, 400 Seventh Street SW., Washington, DC 20590.

FOR FURTHER INFORMATION CONTACT: For nonlegal issues: Michael Huntley, Office of Crashworthiness Standards, NHTSA (telephone (202) 366-0029).

For legal issues: Deirdre R. Fujita, Office of the Chief Counsel, NHTSA (telephone (202) 366-2992).

You can reach both of these officials at the National Highway Traffic Safety Administration, 400 Seventh St., SW., Washington, DC, 20590.

SUPPLEMENTARY INFORMATION:

Table Of Contents

I. Introduction

II. Background

III. Reconsideration of the June 27, 2003 Rule

a. Length of the LATCH Lower Bars

b. Marking the Location of Lower LATCH Anchorage Bars

c. Corrections

IV. Stowable Lower Anchors

V. Effective Date

VI. Rulemaking Analyses And Notices

I. Introduction

On June 27, 2003, NHTSA published a final rule (68 FR 38208, Docket No. 03-15438; corrected 68 FR 54861, September 19, 2003) that provided the last of the agency's responses to petitions for reconsideration that the agency received regarding a final rule establishing Federal Motor Vehicle Safety Standard (FMVSS) No. 225, “Child restraint anchorage systems” (FMVSS No. 225, 49 CFR 571.225). Several parties petitioned for reconsideration of some of the decisions announced by that June 2003 final rule. Today's document responds to those petitions. In addition, today's document denies a request in a petition for reconsideration from Keiper GmbH & Co. (Keiper) to allow the use of stowable (or “foldaway”) lower anchors past September 1, 2004.

II. Background

March 1999 Final Rule

On March 5, 1999, NHTSA published a final rule establishing FMVSS No. 225 (64 FR 10786, docket 98-3390, notice 2). The rule required vehicle manufacturers to equip vehicles with new child restraint anchorage systems that are standardized and independent of the vehicle seat belts. Each new system has two lower anchorages and one tether anchorage. Each lower anchorage includes a rigid round rod or bar of a specified length, onto which the connector of a child restraint system can be attached. The bars are located at the intersection of the vehicle seat cushion and seat back. The upper anchorage is a fixture to which the top tether strap of a child restraint system is to be hooked. (For convenience, this document refers to the child restraint anchorage system as the “LATCH” system. LATCH, an acronym for “Lower Anchors and Tethers for Children,” was a term developed by manufacturers and retailers in educating the public on the availability and use of the new system.)

The LATCH system must meet specified strength requirements and must be either positioned in the vehicle such that the lower anchorage bars are visible to consumers, or at least marked such that their presence and location are made conspicuous. Such marking is required to be accomplished by placing a circle on the vehicle seat back or seat cushion above or below the bar.

A number of parties petitioned for reconsideration of various aspects of the March 1999 final rule, including the standard's strength requirements for the LATCH system, the test procedures used by NHTSA to test for compliance with the requirements, and the configuration and marking of the LATCH lower anchorage bars. The agency responded to the petitions in documents published on August 31, 1999 (64 FR 47566; Docket No. 99-6160), July 31, 2000 (65 FR 46628; Docket No. 7648), and June 27, 2003, supra.

III. Reconsideration of the June 27, 2003 Rule

NHTSA received petitions for reconsideration of the June 27, 2003 final rule from the Alliance of Automobile Manufacturers,¹ Johnson Controls, Mitsubishi, and the Ford Motor Company. The issues raised by the petitioners relate to the length of the LATCH system lower bars, to the marking of the seat back, and to the need for clarification of or minor corrections to various provisions of the final rule.

¹ The Alliance consists of members BMW, DaimlerChrysler, Ford, General Motors, Mazda, Mitsubishi, Porsche, Toyota and Volkswagen. The Alliance supplemented its petition for reconsideration with a letter dated March 24, 2004 (Docket No. NHTSA-03-15438-11).

a. Length of the LATCH Lower Bars

FMVSS No. 225 specifies the length of the lower anchorage bars of a LATCH system. Section 9.1.1(c) states that each bar must be not less than 25 millimeters (mm) long and not more than 50 mm in length. The minimum and maximum limits were adopted in part to standardize the design of the lower bars. The maximum length limit was also adopted to reduce the likelihood that the bars may bend in a crash, and to limit the ability of a child restraint to move laterally and/or rotate in a side impact crash.

In the original final rule, the maximum permissible length was 40 mm. That length referred to the straight portion of the bar to which the lower anchorage hardware of a child restraint is connected. To provide more design and manufacturing flexibility to manufacturers, the June 2003 final rule increased the maximum bar length from 40 mm to 50 mm. In addition, the June 2003 final rule included a Figure 21 that depicted the portion of the bar that is measured for compliance with the 50 mm limit. The portion shown depicted measuring the inside opening of the bar (68 FR at 38213), including the inside radii of the lower anchorage bars, and not just the straight portion of the bar as had been specified before. NHTSA believed that showing where the bar is measured would help to assure that the measurement is objective and repeatable.

The Alliance and Johnson Controls petitioned for reconsideration of the change made by the June 2003 final rule. The petitioners stated that Figure 21 is incorrect because, they believed, measuring the inside portion of the bar would include the inside radii of the lower anchorage bars in the measurement of bar length. Because curved portions of the bar could be included in what was supposed to be a measurement of the “straight” portion of the bar (the straight portion of the bar to which the child restraint hardware connects), petitioners said that the effect of Figure 21 could limit the straight portion of the bar to less than 50 mm. The Alliance stated that some anchorages that had met S9.1.1(c) with a maximum length of 40 mm may now fail the 50 mm limit when measured according to Figure 21.

In a March 24, 2004 supplement to its petition for reconsideration, the Alliance expressed further concern about Figure 21 because, petitioner stated, it does not show how to measure the length of anchorages that do not have straight and parallel sides. (The bar depicted in the figure had straight and parallel sides.) At the same time, the petitioner recognized that the agency believed that measuring the inside opening of the bar at specified points on the bar improved the objectivity of the test. To address the agency's concern and the alleged problems with Figure 21, the petitioner suggested that S9.1.1(d) be amended to specify: (1) That the bar is measured in a vertical plane 13 mm rearward of the vertical plane that is tangent to the forward face of the anchor bar; and (2) that the bar must not be more than 60 mm in length between the anchor bar supports or other structural members that restrict lateral movement of a child restraint attachment. The petitioner believed that the 13 mm provides enough clearance to enable child restraints to attach to the bar.

NHTSA's Response: The agency has decided that Figure 21 is useful in showing where the LATCH bar is to be measured and should generally be retained. Yet, the agency also agrees that revisions to the figure and to the corresponding regulatory text (S9.1.1(c)) are needed, as discussed by the petitioners. As explained below, this final rule makes the amendments to the figure and regulatory text suggested by the Alliance, with one difference.

To provide the design and manufacturing flexibility intended by the agency in the June 27, 2003 final rule in increasing the maximum allowable bar length to 50 mm, this final rule increases the maximum allowable bar length to 60 mm. Increasing the maximum bar length to 60 mm, measured as shown in Figure 21 (as revised today), will allow for the straight portion of the bar to be increased to 50 mm. This final rule also clarifies that the bar must not be more than 60 mm in length between the anchor bar supports or other structural members of the vehicle that restrict lateral movement of the components of a child restraint that are designed to attach to the bars. In other words, the LATCH anchorage bars are not required to have the “U” shape shown in Figure 21. (The Figure will also bear wording that the depiction of the U shape is for illustration purposes only.)

Another amendment relates to the Alliance's suggestion that S9.1.1(d) be amended to specify that the bar is measured in a vertical plane 13 mm rearward of the vertical plane that is tangent to the forward face of the anchor bar. The agency agrees that defining with more specificity where the bar is measured improves the objectivity of the requirement. However, NHTSA believes that the bar should be measured with reference to the vertical plane that is tangent to the rearward face of the anchor bar (rather than the vertical plane that is tangent to the forward face of the bar), taking into account the 6 mm thickness of the bar. Thus, the bar would be measured in a vertical plane that is 7 mm rearward of the vertical plane that is tangent to the rearward face of the anchor bar.

The agency prefers to reference the rearward face of the bar because that dimension directly defines the inside opening of the bar that interfaces with the component on the child restraint that attaches to the LATCH anchor. There would be no need to take into account the ±0.1 mm tolerance allowed for the 6 mm diameter bar.

b. Marking the Location of Lower LATCH Anchorage Bars

FMVSS No. 225 specifies marking requirements for lower LATCH anchorage bars that can not be viewed from a forward angle of 30 degrees above a horizontal plane tangent to the seat cushion (S9.5). Vehicles in which the bars are not visible from that angle must have a permanent mark on the vehicle seat back or seat cushion at each bar's location. The permanent mark must be a circle that is not less than 13 mm (½ inch) in diameter and that is located a specified distance above or below the center of each individual bar, within a specified tolerance. The purposes of marking the location of the bars are to provide a visual reminder to consumers that the LATCH system is present and to help users locate and use the bars. 64 FR at 10802.

Lateral Position of the Circle. Prior to the June 27, 2003 final rule, the standard specified that the center of the circle must be in the vertical longitudinal plane that passes through the center of the bar. The June 2003 final rule amended the standard to provide a ±12 mm lateral tolerance for centering the circle over the anchorage bar, to account for production variation and seat cover configuration. The agency declined to provide a 25 mm tolerance because NHTSA was concerned that with such a tolerance, the centerline of the circle might not be over the bar if the bar were only 25 mm long, and thus the circle may not adequately denote the location of the anchorage.

The Alliance and Ford Motor Company petitioned for reconsideration of the agency's decision not to adopt a lateral tolerance of ±25 mm for the placement of the circle. The petitioners strongly believe that it is impracticable to meet the 12 mm tolerance for some types of vehicles, such as passenger cars that have the LATCH anchors mounted directly to the floor pan with the seat back and cushion independently mounted to the body structure at the assembly plant. The Alliance stated that—

the markings are applied to the seat back trim material before the trim cover is assembled onto the seat back, and there is considerable variation in the location of the marking after the seat trim cover is assembled onto the seat back. Variation in position of the seat back in the vehicle introduces further variation in position of the markings on a seat relative to the anchors on the floor. Reducing this variation would require a costly change in design and different final line vehicle assembly methods with no commensurate increase in safety.

The Alliance stated also that it may not be practicable to locate some types of markings directly over the center of the anchor bar because of seat back design features such as seams, seams with piping, vertical slits to allow easier access to LATCH anchor bars, or junctions between side bolsters and seat inserts. In addition, the petitioner said that a 25 mm tolerance would harmonize with a comparable requirement of Transport Canada.

Johnson Controls, a seat supplier, submitted a May 13, 2004 letter to the docket to support the adoption of a 25 mm tolerance. Johnson Controls believed that a portion of the circle would always be over the anchor area even if a 25 mm tolerance were specified. Further, Johnson Controls stated that established design tolerances used in seat and vehicle assembly processes currently exceed the 12 mm lateral tolerance, and that there is no existing process that allows for the seat back to be marked to meet a 12 mm tolerance.

NHTSA's Response: The agency has decided to grant the request to increase the lateral tolerance to 25 mm. Vehicle manufacturers have provided convincing information that for many vehicles, it would be difficult to align the center of the LATCH lower anchorage bars and a 13 mm circle with less than a 25 mm tolerance due to manufacturing processes and seat back design features. Moreover, the agency believes that increasing the tolerance to 25 mm will not significantly affect the consumers' ability to find the LATCH anchorages. While anchor bars are permitted to be as short as 25 mm in the straight portion of the bar (see revised Figure 21), most are considerably longer. Even if a 25 mm bar were used, with a 25 mm tolerance from the center of the bar, the circle will be, at farthest, tangent to a longitudinal vertical plane tangent to the side of the anchorage bar. If a person were to probe the seat bight in the area directly under the marking circle, his or her finger would easily contact the bar. For bars that are greater than 25 mm in length, with a 25 mm tolerance a portion of the marking circle will always be over some part of the bar. In either situation, marking the circle with a 25 mm tolerance will adequately provide a visual reminder to consumers that the LATCH system is present and will help users locate and use the bars. Adopting the 25 mm tolerance will also harmonize FMVSS No. 225 with the comparable Transport Canada requirement.

Vertical Position of the Circle. Prior to the June 27, 2003 final rule, the standard specified that the center of the circle must be not less than 50 mm and not more than 75 mm above the bar. The June 27, 2003 final rule denied a request from the Alliance that the vertical position of the marking should be located not more than 100 mm from the horizontal centerline of the anchorage bar in the vertical longitudinal plane. NHTSA did not increase the 75 mm upper limit to 100 mm because, the agency believed, it might be difficult for some consumers to align the child restraint attachments with the circles when the circles are 100 mm from the bars.

Ford Motor Company petitioned for reconsideration of this decision, stating that the 75 mm upper limit causes problems for vehicles that have large vertical slits along the bottom of the seat back. The petitioner stated that on these vehicles, to meet the 75 mm upper limit, the access slit would have to be shortened.

The access slit cannot be long enough to readily access the anchors and provide room for hook-type attachments to be tightened while still keeping the markings within the 50 to 75 mm tolerance (and within ±25 mm of the lateral center of the anchor bar). * * * Child restraint manufacturers are reporting damage, particularly to leather seats, from hook-type attachments, which are pulled sharply upward when the child seat attachments are tightened.

Ford stated that increasing the permitted vertical range to 50 to 100 mm would allow longer vertical access slits.

NHTSA's Response: Ford has submitted new information on the need for a longer vertical slit that has convinced NHTSA that the permitted vertical range of the circle should be increased to 100 mm from the LATCH bar. An increase to 100 mm balances the need for a longer slit (to decrease the wear-and-tear on the fabric, leather or other material out of which the seat cover is fabricated) with the need for reasonable proximity of the circle to the anchorage bar. This final rule amends S9.5(a)(3) and Figure 22 to permit the circle to be 50 to 100 mm above the bar.

Permanency. The June 27, 2003 final rule included a discussion in the preamble that explained that the agency was not allowing the use of tags to meet the marking requirement, i.e., the circle could not be placed on a tag that stuck out from the vehicle seat back like a flag. NHTSA was concerned that, if only one side of a tag were sewn into a seam, it was foreseeable that a consumer would snip it off. The final rule included a provision that a tag could be used only if it is sewn on at least half of its border (so as to not invite snipping).

The Alliance petitioned for reconsideration of the requirement that a tag had to be sewn on at least half its border. The petitioner said that sewing half of the border of a tag forms a loop that can catch on the clothing of occupants (particularly pocket rivets), and may be susceptible to damage. (Some of the members of the Alliance misunderstood NHTSA's requirement that a tag must be sewn on at least half its border. By this requirement, the agency meant to ensure that fabric tags lay flat on the seat back or cushion, and will not stick out from a seam. Some members envisioned folding a fabric tag in half and sewing the two matching edges into a seam. The resulting tag protrudes from the seam even though half of its border was sewn, which was contrary to NHTSA's intent.)

NHTSA's Response: The agency has reconsidered its position that the standard should prohibit tags from protruding from the vehicle seat back or seat cushion. The agency originally adopted the provision against sewing only one side of a tag out of a concern that consumers could find the tag bothersome and may be tempted to snip it off. This concern was discussed in a letter interpreting a provision in FMVSS No. 213, “Child restraint systems” (49 CFR 571.213), that requires rear-facing child restraints to be permanently labeled with a crucial safety warning not to place a rear-facing child restraint in the front seat of a vehicle equipped with a passenger-side air bag. http://www.nhtsa.dot.gov/cars/rules/interps/files/13960sew.lab.html. The label is required to be fairly large (it averages about 54 square cm) and conspicuous, and located on the child restraint where the child's head would rest. The agency decided that by virtue of its location and ease of detachment by cutting, tearing or pulling off the single row of stitching attaching the label, the label invited removal and was not likely to stay attached during the course the restraint would be used. These considerations are not present for a tag having a 13 mm circle, located near the vehicle seat bight. Such a tag is not nearly so likely to be removed as a large warning label protruding from the padding of the child restraint in the area where a child's head would rest.

Vehicle manufacturers have indicated that tags can facilitate the marking of the LATCH lower anchorages, possibly reducing costs and increasing design flexibility. Because of this, and because the need to prohibit protruding tags is small in the FMVSS No. 225 situation as compared to that of the FMVSS No. 213 air bag warning label, NHTSA is amending S9.5(a)(4) of FMVSS No. 225 to specify that the circle may be on a tag, and to remove any specification as to how much of the tag's border must be sewn.

c. Corrections

This final rule makes the following corrections to and clarifications of the June 27, 2003 final rule.

Effective Date

In its petition for reconsideration, Mitsubishi stated that it was unclear when the amendments made by the June 27, 2003 final rule to S9 were to take effect. The June 2003 final rule stated that the effective date for the document was 30 days from publication (August 26, 2003), but Mitsubishi believed that NHTSA intended to have the amendments come into force September 1, 2004. Mitsubishi is correct that the agency intended the mandatory compliance date for the amendments to be September 1, 2004. Vehicles manufactured on or after that date would have to meet the amended requirements.

NHTSA notes that the June 27, 2003 should also have specified that voluntary early compliance would be permitted. Manufacturers were allowed to certify their vehicles as meeting FMVSS No. 225, as amended, prior to September 1, 2004.

Simultaneous Testing

The Alliance raised an issue in a September 13, 2000 submission to a previous docket on FMVSS No. 225 (Docket No. 00-7648-5) that the agency inadvertently did not address. FMVSS No. 225 specifies test conditions and procedures for testing tether anchorages. The standard originally specified that in the case of a row of designated seating positions that has more than one tether anchorage, at the agency's option, each tether anchorage could be tested simultaneously (S6.3.3, 64 FR at 10825). The agency later amended this provision, at the request of the Alliance, to specify that adjacent seating positions should only be subject to simultaneous testing if two child restraints, 400 mm wide, can be properly installed side-by-side (65 FR 46628). (Based on the width of typical child restraints, a center-to-center distance between adjacent seating positions of at least 400 mm is needed to install child restraints in adjacent seating positions properly.) That is, if there is a row of seats in which three adjacent seating positions are equipped with lower anchorages, but it is physically impossible to install three child restraints properly in these seating positions, there is no need to test all three LATCH systems (or tether anchorages) simultaneously. (65 FR at 46637.)

The agency implemented the amendment applying to the simultaneous testing of tether anchorages by amending S6.3.3 and S6.3.4 and adding a Figure 20. In S6.3.3, S6.3.4 and Figure 20, reference is made to measuring a distance between “the two lower anchorages” at the seating position. The Alliance noted that the reference does not provide for determining whether to test simultaneously tether anchorages at seating positions that do not have “lower anchorages” (child restraints would be attached at such seating positions by use of the vehicle's belt system and top tether anchorage). The Alliance suggested that NHTSA correct S6.3.3, S6.3.4 and Figure 20 by specifying that the midpoint of such seating positions “lies in the vertical longitudinal plane that passes through the SgRP [seating reference point] of the seating position.” NHTSA agrees and has made the correction in this document.

Displacement Limit for Lateral Pull Test

In its petition for reconsideration, Johnson Controls and the Alliance stated that it was unclear whether NHTSA intended the displacement limit for lower LATCH anchorages in the lateral pull test specified in S9.4.1(b) to be the same for lower anchorages that are in outboard and non-outboard designated seating positions. Johnson Controls said that regulatory text specifies 150 mm for anchorages in both seating positions but that the preamble discussing the change implied that the 150 mm requirement applied only to non-outboard seating positions.

The 150 mm requirement applies to anchorages in both the outboard and non-outboard seating positions. The agency has amended the text of S9.4.1(b) to make this clearer.

Phase-In Dates

The Alliance noted that some of the dates in section S16 were in error. S16 specifies a one-year phase-in schedule for vehicles manufactured on or after September 1, 2004 and before September 1, 2005. The introductory paragraph of S16 states that, “At anytime during the production year ending August 31, 2004,” manufacturers must provide information to NHTSA upon request. The Alliance correctly noted that the date should be August 31, 2005, to make reference to the one-year period during which the requirements are phased in. Today's document makes this correction.

The petitioner also referred to S16.1(b), which specifies that the number of vehicles that must meet certain requirements must not be less than 90 percent of the manufacturer's production in a specified one-year period. The final rule stated that that period is from September 1, 2003 to September 1, 2004. The petitioner stated that the period should be September 1, 2004 to September 1, 2005, to match the production year of interest. The agency agrees and has made the correction.

S9.3

The agency has noted that the electronic Code of Federal Regulations shows that S9.3 of FMVSS No. 225 is no longer included in the standard. There was no intent by NHTSA that the section be removed. Today's document replaces the paragraph in FMVSS No. 225.

IV. Stowable Lower Anchors

Final rules of August 31, 1999 and July 31, 2000, supra, that responded to various issues raised in petitions for reconsideration of the rulemaking that established FMVSS No. 225 permitted vehicle manufacturers to meet a then-draft standard developed by the International Organization for Standardization (ISO) during an interim period. (That interim period originally was set to expire September 1, 2002 but was extended to September 1, 2004.) NHTSA permitted compliance with the draft ISO standard because manufacturers were able to produce vehicles in the short-term that could meet the anchorage strength levels in the ISO requirements.

Keiper requested in a petition for reconsideration that NHTSA retain one aspect of the draft ISO standard on a permanent basis. The draft ISO standard allowed the use of stowable or fold-away lower anchorages of a LATCH system. The petitioner believes that stowable/foldaway anchorages address difficulties in mounting lower LATCH anchorages in seating positions that have a limited area in which to locate the anchorages and in those positions that have deeply contoured seats. The petitioner also believes that the stowable or fold-away anchorages could be placed farther to the rear than rigidly-mounted LATCH lower anchorages. The petitioner said that that placement would increase the potential safety and comfort for adult seat occupants. Petitioner stated that it offers a “standard” and “economy” models of a stowable anchorage system.

In the “park” position, these components are out of sight in the gap between the backrest and the seat cushion. * * * On the Standard module * * *, they can be released with a pull tab. Integrated springs then bring the brackets into the “ready” position. The eccentric mounting, combined with the active force of the springs prevent the brackets from swinging out of position while the child seat is being installed. In the basic Economy version * * *, each bracket is manually folded out of the gap between the seat cushion and back rest and placed into the “ready” position * * *. The Economy version anchorages are fixed in the “ready” position by a bolt element which has to be released before the anchorage can be pivoted back in its “park” position.

NHTSA is denying this request to allow stowable anchorages after August 31, 2004. Although stowable anchorages are currently used by only one vehicle manufacturer (DaimerChrysler) on limited models, the agency is concerned that if these anchorage systems were used more generally, they might impede efforts to achieve maximum compatibility between child restraint systems and vehicle LATCH systems. While FMVSS No. 225 has made child restraints easier to use, it is still difficult to install some LATCH-equipped child restraints in some vehicles.² NHTSA is monitoring how the LATCH system is being implemented in vehicles and on child restraints and how effectively consumers are using the system, to identify any areas that need to be addressed to improve compatibility between vehicles and child restraints further (Docket NHTSA 2003-15998). Consumers are just beginning to become familiar with standardized LATCH systems. Compatibility is unlikely to be fostered by a variation in the usability of LATCH at this time.

² June 11, 2003 joint press event; NHTSA, Consumers Union, and the Insurance Institute for Highway Safety (IIHS).

Stowable anchorages, which are not standardized in form or function by FMVSS No. 225 in their stowed position, are new to the vast majority of consumers. Because FMVSS No. 225 does not specify how stowable anchorages are stowed, deployed, or re-stowed, stowable systems could be designed to operate in disparate ways and to be stowed in the seat bight (or elsewhere) at varied locations. The lack of standardization could increase consumer uncertainty about using the system, and possibly cause misuse or nonuse of the anchorages.

The agency does not believe that stowable anchorages meet a safety need that warrants using limited agency resources to standardize them. A search of the NHTSA Hotline database shows only one consumer complaint about discomfort from feeling a non-stowable lower LATCH anchorages. IIHS has also told NHTSA that it has not heard of any complaints about non-stowable anchorages.

V. Effective Date

The agency is making today's amendments effective September 1, 2004. This final rule amends requirements that will come into effect on that date. For that reason, NHTSA finds for good cause to make this final rule effective in less than 180 days. Voluntary early compliance with the amendments made in today's final rule is permitted.

VI. Rulemaking Analyses and Notices

a. Executive Order 12866 (Regulatory Planning and Review) and DOT Regulatory Policies and Procedures

This rulemaking document was not reviewed under E.O. 12866, “Regulatory Planning and Review.” We have considered the impacts of this rulemaking action and have determined that this action is not “significant” within the meaning of the Department of Transportation's regulatory policies and procedures. We have further determined that the effects of this rulemaking do not warrant preparation of a full final regulatory evaluation. This document resolves relatively minor issues raised by petitions for reconsideration of a June 2003 final rule. Manufacturers will be minimally affected by this rulemaking because generally it does not change the manufacturers' responsibilities to install tether anchorages and LATCH systems previously established by the issuance of FMVSS No. 225. This rule provides slightly more flexibility in how vehicle seat backs must be marked to identify the presence and location of the lower LATCH anchorages that are hidden from view. It also provides for greater leeway in the length of the lower bars. This rule corrects and clarifies some requirements and test procedures, but overall does not impose new test burdens.

b. Regulatory Flexibility Act

NHTSA has considered the effects of this rulemaking action under the Regulatory Flexibility Act. I hereby certify that it will not have a significant economic impact on a substantial number of small entities. This rule affects motor vehicle manufacturers, almost all of which are not small businesses. Even if there are motor vehicle manufacturers that qualify as small entities, this rule will not have a significant economic impact on them because it generally does not change the manufacturers' responsibilities to install LATCH systems pursuant to FMVSS No. 225. Accordingly, the agency has not prepared a regulatory flexibility analysis.

c. Executive Order 13132 (Federalism)

This rulemaking action has been analyzed in accordance with the principles and criteria contained in Executive Order 13132. This rule will not have a substantial direct effect on States, on the relationship between the national government and the States, or on the distribution of power and responsibilities among the various levels of government, as specified in Executive Order 13132. Accordingly, NHTSA has determined that this final rule does not contain provisions that have federalism implications or that preempt State law.

d. Unfunded Mandates Reform Act

The Unfunded Mandates Reform Act of 1995 (Pub. L. 104-4) requires agencies to prepare a written assessment of the costs, benefits and other effects of proposed or final rules that include a Federal mandate likely to result in the expenditure by State, local or tribal governments, in the aggregate, or by the private sector, of more than $100 million annually. This rule does not impose any unfunded mandates as defined by that Act.

e. National Technology Transfer and Advancement Act

Under the National Technology Transfer and Advancement Act of 1995 (NTTAA) (Pub. L. 104-113), “all Federal agencies and departments shall use technical standards that are developed or adopted by voluntary consensus standards bodies, using such technical standards as a means to carry out policy objectives or activities determined by the agencies and departments.”

In developing today's document, we considered a standard issued by the ISO on child restraint anchorage systems. ISO is a worldwide voluntary federation of ISO member bodies. In responding to petitioners for reconsideration, we considered the ISO standard to guide our decisionmaking to the extent consistent with the Safety Act. The ISO standard permits stowable anchorages. NHTSA has decided not to permit these anchorages because consumers in this country are only now becoming familiar with the non-stowable LATCH system. We are concerned that the lack of standardization of stowable anchorages could increase consumer uncertainty about using the system, and possibly cause misuse or nonuse of the anchorages. We also considered the regulations developed by Transport Canada in making decisions about the standard's marking requirements.

f. National Environmental Policy Act

NHTSA has analyzed this rulemaking action for the purposes of the National Environmental Policy Act. The agency has determined that implementation of this action will not have any significant impact on the quality of the human environment.

g. Executive Order 12778 (Civil Justice Reform)

This rule does not have any retroactive effect. Under section 49 U.S.C. 30103, whenever a Federal motor vehicle safety standard is in effect, a State may not adopt or maintain a safety standard applicable to the same aspect of performance which is not identical to the Federal standard, except to the extent that the State requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

h. Paperwork Reduction Act

This rule does not contain any collection of information requirements requiring review under the Paperwork Reduction Act of 1995 (Pub. L. 104-13).

i. Viewing Docket Submissions

You may read the comments received by Docket Management at Room PL-401, 400 Seventh Street, SW., Washington DC 20590 (telephone (202) 366-9324). You may visit the Docket from 10 a.m. to 5 p.m., Monday through Friday.

You may also see the comments on the Internet. Go to the Docket Management System (DMS) Web page of the Department of Transportation (http://dms.dot.gov/).

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 49 CFR Part 571

Imports, Incorporation by reference, Motor vehicle safety, Reporting and recordkeeping requirements, Tires.

In consideration of the foregoing, NHTSA amends 49 CFR chapter V as set forth below.

PART 571—FEDERAL MOTOR VEHICLE SAFETY STANDARDS

1. The authority citation for part 571 continues to read as follows:

Authority: 49 U.S.C. 322, 30111, 30115, 30117 and 30166; delegation of authority at 49 CFR 1.50.

2. Section 571.225 is amended by:

a. Revising S6.3.3(a)(1) and S6.3.4.3(a)(1);

b. Revising S9.1.1(c);

c. Adding S9.3;

d. Revising S9.4.1(b), S9.5(a)(3) and S9.5(a)(4);

e. Revising the introductory paragraph of S16, and revising S16.1(b); and

f. Revising Figures 20, 21 and 22.

The revised and added figures and paragraphs read as follows:

§ 571.225 Standard No. 225; Child restraint anchorage systems.

* * * * *

S6.3.3 Provisions for simultaneous and sequential testing.

(a) * * *

(1) The midpoint of the seating position lies in the vertical longitudinal plane that is equidistant from vertical longitudinal planes through the geometric center of each of the two lower anchorages at the seating position. For those seating positions that do not provide lower anchorages, the midpoint of the seating position lies in the vertical longitudinal plane that passes through the SgRP of the seating position.

* * * * *

S6.3.4.3 Provisions for simultaneous and sequential testing.

(a) * * *

(1) The midpoint of the seating position lies in the vertical longitudinal plane that is equidistant from vertical longitudinal planes through the geometric center of each of the two lower anchorages at the seating position. For those seating positions that do not provide lower anchorages, the midpoint of the seating position lies in the vertical longitudinal plane that passes through the SgRP of the seating position.

* * * * *

S9.1.1 * * *

(c) As shown in Figure 21, are:

(i) Not less than 25 mm in length, and

(ii) Are not more than 60 mm in length between the anchor bar supports or other structural members of the vehicle that restrict lateral movement of the components of a child restraint that are designed to attach to the bars, measured in a vertical plane 7 mm rearward of the vertical plane that is tangent of the rearward face of the anchor bar.

* * * * *

S9.3 Adequate fit of the lower anchorages. Each vehicle and each child restraint anchorage system in that vehicle shall be designed such that the CRF can be placed inside the vehicle and attached to the lower anchorages of each child restraint anchorage system, with adjustable seats adjusted as described in S9.3(a) and (b).

(a) Place adjustable seat backs in the manufacturer's nominal design riding position in the manner specified by the manufacturer; and

(b) Place adjustable seats in the full rearward and full downward position.

(c) To facilitate installation of the CRF in a vehicle seat, the side, back and top frames of the CRF may be removed for installation in the vehicle, as indicated in Figure 1A of this standard. If necessary, the height of the CRF may be 560 mm.

S9.4 Strength of the lower anchorages.

S9.4.1 * * *

(b) 150 mm, for lower anchorages when a force of 5,000 N is applied in a lateral direction in a vertical longitudinal plane that is 75 ± 5 degrees to either side of a vertical longitudinal plane.

* * * * *

S9.5 * * *

(a) * * *

(3) That is located such that its center is on each seat back between 50 and 100 mm above or on the seat cushion 100 ± 25 mm forward of the intersection of the vertical transverse and horizontal longitudinal planes intersecting at the horizontal centerline of each lower anchorage, as illustrated in Figure 22. The center of the circle must be in the vertical longitudinal plane that passes through the center of the bar (±25 mm).

(4) The circle may be on a tag.

* * * * *

S16. Phase-in of strength requirements for vehicles manufactured on or after September 1, 2004 and before September 1, 2005. At anytime during the production year ending August 31, 2005, each manufacturer shall, upon request from the Office of Vehicle Safety Compliance, provide information identifying the vehicles (by make, model and vehicle identification number) that have been certified as complying with S6.3.1 or S6.3.4, and with S9.4 or S15.2 and S15.3. The manufacturer's designation of a vehicle as meeting the particular requirement is irrevocable.

S16.1 * * *

(b) The manufacturer's production on or after September 1, 2004 and before September 1, 2005.

* * * * *

BILLING CODE 4910-59-P

Issued on August 3, 2004.
Jeffrey W. Runge,
Administrator.

[FR Doc. 04-18199 Filed 8-10-04; 8:45 am]

BILLING CODE 4910-59-C